DEPARTMENT OF THE INTERIOR

U.S. Geological Survey

Agency Information Collection Activities: Submitted for Office of Management and Budget (OMB) Review; Comment Request

AGENCY: U.S. Geological Survey (USGS), Interior.

ACTION: Notice of an extension of an information collection (1028-0056).

SUMMARY: To comply with the Paperwork Reduction Act of 1995 (PRA), we are notifying the pubic that we have submitted to OMB an information collection request (ICR) to renew approval of the paperwork requirements for “North American Reporting Center for Amphibian Malformations (NARCAM) Voluntary Observation Submission Form.” This notice also provides the public a second opportunity to comment on the paperwork burden of this form. The form is available online at http://frogweb.nbii.gov/narcam/report.html.

DATES: Submit written comments by November 26, 2007.

ADDRESSES: Please submit comments on this information collection directly to the Office of Management and Budget (OMB), Office of Information and Regulatory Affairs, Attention: Desk Office for the Department of the Interior via OMB e-mail: (OIRA_DOCKET@omb.eop.gov); or by fax (202) 395-6566; and identify your submission with #1028-0a56.

Please also submit a copy of your comments to the Department of the Interior, USGS, via:

• E-mail: atravnic@usgs.gov. Use Information Collection Number 1028-0056 in the subject line.

• Fax: (703) 648-7069. Use Information Collection Number 1028-0056 in the subject line.

• Mail or hand-carry comments to the Department of the Interior; USGS Clearance Officer, U.S. Geological Survey, 807 National Center, Reston, VA 20192. Please reference Information Collection 1028-0056 in your comments.

FOR FURTHER INFORMATION CONTACT: Lisa Zolly at (703) 648-4277. Copies of the full Information Collection Request and the forms can be obtained at no cost at http://www.reginfo.gov or by contacting the USGS clearance officer at the phone number listed below.

SUPPLEMENTARY INFORMATION:

Title: North American Reporting Center for Amphibian Malformations (NARCAM) Voluntary Observation Reporting Form.

OMB Control Number: 1028-0056.

Form Number: Web-based collection form; no form number.

Abstract: Respondents to this form voluntarily supply the U.S. Geological Survey, National Biological Information Infrastructure Program with data and information regarding observations of malformed amphibians. Once the information is peer-reviewed by a professional herpetologist, this information will be published online in the North American Reporting Center for Amphibian Malformations database for use by Government agencies, natural resources managers, researchers, education programs, and the general public.

We will protect information considered proprietary under the Freedom of Information Act (5 U.S.C. 552) and its implementing regulations (43 CFR part 2), and under regulations at 30 CFR 250.197, “Data and information to be made available to the public or for limited inspection.” Responses are voluntary. No questions of a “sensitive” nature are asked. We intend to release data collected on the NARCAM online form only in a format that is not reporter-specific; no information that would identify an individual reporter will be released to the public.

Frequency: Voluntary submissions. Most reporters submit one-time observational reports; however, a small percentage submits multiple reports as malformations are observed.

Estimated Number and Description of Respondents: Approximately 150 public citizens, natural resources managers, land managers, and biologists annually.

Estimated Number of Responses: Historical average of 300 annually; many respondents, particularly researchers and resource managers, submit more than one response annually.

Annual burden hours: 150.

Estimated Annual Reporting and Recordkeeping “Hour” Burden: The currently approved “hour” burden is 150 hours. We estimate the public reporting burden averages 30 minutes per response. This includes the time for reviewing instructions, gathering and maintaining data, and completing and reviewing the information.

Estimated Reporting and Recordkeeping “Non-Hour Cost” Burden: We have not identified any “non-hour cost” burdens associated with this collection of information.

Public Disclosure Statement: The PRA (44 U.S.C. 3501, et seq.) provides that an agency may not conduct a sponsor, and you are not required to respond to, a collection of information unless it displays a currently valid OMB control number. Until OMB approves a collection of information, you are not obligated to respond.

Comments: Before submitting an ICR to OMB, PRA section 3506(c)(2)(A) (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimated of the burden of the proposed collection of information; (c) enhance the quality, usefulness, and clarity of the information to be collected; and (d) minimize the burden on the respondents, including the use of automated collection techniques or other forms of information technology.

To comply with the public consultation process, on August 22, 2007, we published a Federal Register notice (72 FR pp. 47065-47066) announcing that we would submit this ICR to OMB for approval. The notice provided the required 60-day public comment period. We have received no comments in response to the notice.

USGS Information Collection Clearance Officer: Alfred Travnicek, 703-648-7231.

Dated: October 22, 2007.
Gladys A. Cotter,
Associated Chief Biologist for Information, U.S. Geological Survey.

[FR Doc. 07-5300 Filed 10-25-07; 8:45 am]

BILLING CODE 4311-AM-M